DEPARTMENT OF TRANSPORTATION

Federal Aviation Administration

14 CFR Part 39

[Docket No. FAA-2006-25391; Directorate Identifier 2006-NM-097-AD]

RIN 2120-AA64

Airworthiness Directives; Fokker Model F.28 Mark 0070 and 0100 Airplanes

AGENCY: Federal Aviation Administration (FAA), Department of Transportation (DOT).

ACTION: Notice of proposed rulemaking (NPRM).

SUMMARY: The FAA proposes to supersede an existing airworthiness directive (AD) that applies to certain Fokker Model F.28 Mark 0070 and 0100 airplanes. The existing AD currently requires a one-time inspection of the sliding members in the main landing gear (MLG) for cracking and replacement of the sliding members with serviceable parts if necessary. This proposed AD would require repetitive magnetic particle inspections of the sliding members of the MLG for cracking and corrective actions as necessary. This proposed AD results from inspection findings that have shown repetitive inspections are needed to establish fleet safety. We are proposing this AD to detect and correct fatigue cracking of the sliding member, which could result in possible separation of the MLG from the airplane and consequent reduced controllability of the airplane upon landing and possible injury to passengers.

DATES: We must receive comments on this proposed AD by August 18, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Fokker Services B.V., Technical Services Dept., P.O. Box 231, 2150 AE Nieuw-Vennep, the Netherlands, for service information identified in this proposed AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

We invite you to submit any relevant written data, views, or arguments regarding this proposed AD. Send your comments to an address listed in the ADDRESSES section. Include the docket number “Docket No. FAA-2006-25391; Directorate Identifier 2006-NM-097-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On April 1, 2004, we issued AD 2004-08-01, amendment 39-13570 (69 FR 19759, April 14, 2004), for certain Fokker Model F.28 Mark 0070 and 0100 airplanes. That AD requires a one-time inspection of the sliding members of the main landing gear (MLG) for cracking and replacement of the sliding members with serviceable parts if necessary. That AD resulted from a report of the sliding member of the left MLG breaking off during pushback of the airplane from the gate. We issued that AD to prevent fatigue cracking of the sliding member, which could result in possible separation of the MLG from the airplane and consequent reduced controllability of the airplane upon landing and possible injury to passengers.

Actions Since Existing AD Was Issued

Since we issued AD 2004-08-01, the Civil Aviation Authority—The Netherlands (CAA-NL), has notified us that the unsafe condition of that AD may still exist on certain Fokker Model F.28 Mark 0070 and 0100 airplanes. Based on findings from inspections mandated by Dutch airworthiness directive 2002-060, dated April 29, 2002, and Dutch airworthiness directive 2004-046, dated April 20, 2004, the CAA-NL advises that repetitive inspections are needed to establish fleet safety. (The CAA-NL issued Dutch airworthiness directive 2002-060 to address the unsafe condition of AD 2004-08-01 on airplanes in the Netherlands. Subsequently, the CAA-NL also issued Dutch airworthiness directive 2004-046 to require an additional one-time inspection of the sliding members of the MLG for cracking.) Fatigue cracking of the sliding member of the MLG, if not corrected, could result in possible separation of the MLG from the airplane and consequent reduced controllability of the airplane upon landing and possible injury to passengers.

Relevant Service Information

Fokker Services B.V. has issued Service Bulletin SBF100-32-144, dated September 19, 2005. The service bulletin describes procedures for doing repetitive magnetic particle inspections of the sliding members of the left and right MLG for cracking and related investigative action and corrective actions as necessary. The related investigative action is an optional penetrant flaw detection check of a sliding member for cracking, which can be performed to verify the findings of the magnetic particle inspection. The corrective actions include removing any surface damage from the radius and replacing any cracked sliding member with a serviceable part. Accomplishing the actions specified in the service information is intended to adequately address the unsafe condition. The CAA-NL mandated the service information and issued Dutch airworthiness directive NL-2005-012, dated October 17, 2005, to ensure the continued airworthiness of these airplanes in the Netherlands.

Fokker Service Bulletin SBF100-32-144 refers to Messier-Dowty Service Bulletin F100-32-110, dated August 25, 2005, as an additional source of service information for accomplishing the magnetic particle inspection.

Fokker Services B.V. also has issued Service Bulletin SBF100-32-139, dated March 5, 2004. The procedures in Fokker Service Bulletin SBF100-32-139 are essentially the same as those in Fokker Service Bulletin SBF100-32-133, dated April 1, 2002, which we referenced in AD 2004-08-01 as the appropriate source of service information for accomplishing a one-time magnetic inspection. The CAA-NL mandated Fokker Service Bulletin SBF100-32-139 and issued Dutch airworthiness directive 2004-046 to require an additional one-time magnetic inspection of the sliding members of the MLG for cracking. Fokker Service Bulletin SBF100-32-139 refers to Messier-Dowty Service Bulletin F100-32-105, dated March 2, 2004, as an additional source of service information for accomplishing the magnetic inspection.

FAA's Determination and Requirements of the Proposed AD

These airplane models are manufactured in the Netherlands and are type certificated for operation in the United States under the provisions of section 21.29 of the Federal Aviation Regulations (14 CFR 21.29) and the applicable bilateral airworthiness agreement. Pursuant to this bilateral airworthiness agreement, the CAA-NL has kept the FAA informed of the situation described above. We have examined the CAA-NL's findings, evaluated all pertinent information, and determined that AD action is necessary for airplanes of this type design that are certificated for operation in the United States.

This proposed AD would supersede AD 2004-08-01 and would retain the requirements of the existing AD. This proposed AD would also require accomplishing the actions specified in service bulletin described previously, except as discussed under “Differences Among the Proposed AD, Dutch Airworthiness Directive, and Service Bulletin.”

Differences Among the Proposed AD, Dutch Airworthiness Directive, and Service Bulletin

Paragraph (d) of Dutch airworthiness directive NL-2005-012 requires a magnetic inspection of the MLG sliding members before further flight after every high drag load landing. Also, paragraph (e) of Dutch airworthiness directive NL-2005-012 requires an inspection of the MLG sliding members within 50 flight hours after the airplane brakes are applied during backward movement of the airplane. Fokker Service Bulletin SBF-100-32-144 also recommends accomplishing these inspections in paragraphs 1.E.(4) and (5) of the service bulletin. This proposed AD, however, does not require either of those inspections since there is no legal way to track high drag load landings or application of the brakes during backward movement of the airplane. We have coordinated these differences with the CAA-NL.

Change to Existing AD

This proposed AD would retain all requirements of AD 2004-08-01. Since AD 2004-08-01 was issued, the AD format has been revised, and certain paragraphs have been rearranged. As a result, the corresponding paragraph identifiers have changed in this proposed AD, as listed in the following table:

Revised Paragraph Identifiers
Requirement in AD 2004-08-01 | Corresponding requirement in this proposed AD
paragraph (a) | paragraph (f).
paragraph (b) | paragraph (g).
paragraph (c) | paragraph (h).

Costs of Compliance

This proposed AD would affect about 37 airplanes of U.S. registry.

The inspection that is required by AD 2004-08-01 and retained in this proposed AD takes either about 4 or 12 work hours per airplane, depending on airplane configuration, at an average labor rate of $80 per work hour. Based on these figures, the estimated cost of the currently required actions is either $320 or $960 per airplane, depending on airplane configuration.

The new proposed inspections would take about 2 work hours per airplane, at an average labor rate of $80 per work hour. Based on these figures, the estimated cost of the new inspections specified in this proposed AD for U.S. operators is $5,920, or $160 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13570 (69 FR 19759, April 14, 2004) and adding the following new airworthiness directive (AD):

Fokker Services B.V.: Docket No. FAA-2006-25391; Directorate Identifier 2006-NM-097-AD.

Comments Due Date

(a) The FAA must receive comments on this AD action by August 18, 2006.

Affected ADs

(b) This AD supersedes AD 2004-08-01.

Applicability

(c) This AD applies to Fokker Model F.28 Mark 0070 and 0100 airplanes, certificated in any category; equipped with any Dowty or Messier-Dowty main landing gear (MLG) listed in Table 1 of this AD.

Table 1.—Affected Parts
MLG Part No. (P/N)— | Equipped with sliding member P/N—
201072011 | 201072301 or 201072305.
201072012 | 201072301 or 201072305.
201072013 | 201072301 or 201072305.
201012014 | 201072301 or 201072305.
201072015 | 201072301 or 201072305.
201072016 | 201072301 or 201072305.

Unsafe Condition

(d) This AD results from inspection findings that have shown repetitive inspections are needed to establish fleet safety. We are issuing this AD to detect and correct fatigue cracking of the sliding member, which could result in possible separation of the MLG from the airplane and consequent reduced controllability of the airplane upon landing and possible injury to passengers.

Compliance

(e) You are responsible for having the actions required by this AD performed within the compliance times specified, unless the actions have already been done.

Requirements of AD 2004-08-01

Inspection and Replacement if Necessary

(f) Within 1,000 flight cycles or six months after May 19, 2004 (the effective date of AD 2004-08-01), whichever occurs first, perform a magnetic inspection of the sliding members of the MLG for cracking, in accordance with the Accomplishment Instructions of Fokker Service Bulletin SBF100-32-133, dated April 1, 2002. If any crack is found during the inspection, before further flight, replace the sliding members with serviceable parts in accordance with the Accomplishment Instructions of the service bulletin.

Note 1: Fokker Service Bulletin SBF100-32-133, dated April 1, 2002, refers to Messier-Dowty Service Bulletin F100-32-103, dated March 11, 2002, as an additional source of service information.

Parts Installation With Accomplishment of New Service Bulletins

(g) As of May 19, 2004, no person may install a sliding member of the MLG, P/N 201072301 or P/N 201072305, on any airplane, unless it has been inspected in accordance with the Accomplishment Instructions of Fokker Service Bulletin SBF100-32-133, dated April 1, 2002; Fokker Service Bulletin SBF100-32-139, dated March 5, 2004; or Fokker Service Bulletin SBF100-32-144, dated September 19, 2005; and found to be serviceable.

Note 2: Fokker Service Bulletin SBF100-32-139, dated March 5, 2004, refers to Messier-Dowty Service Bulletin F100-32-105, dated March 2, 2004, as an additional source of service information for accomplishing a magnetic inspection.

Note 3: Fokker Service Bulletin SBF100-32-144, dated September 19, 2005, refers to Messier-Dowty Service Bulletin F100-32-110, dated August 25, 2005, as an additional source of service information for accomplishing a magnetic inspection.

Reporting Requirement Difference

(h) Although Fokker Service Bulletin SBF100-32-133, dated April 1, 2002, specifies to submit certain information to the manufacturer, this AD does not include such a requirement.

New Requirements of This AD

Repetitive Inspections

(i) At the later of the compliance times specified in paragraphs (i)(1) and (i)(2) of this AD: Do a magnetic inspection of the sliding members of the left and right MLG for cracking, and do all corrective actions before further flight after the inspection, by accomplishing all of the applicable actions specified in the Accomplishment Instructions of Fokker Service Bulletin SBF100-32-144, dated September 19, 2005. Repeat the inspection thereafter at intervals not to exceed 2,000 flight cycles.

(1) Within 2,000 flight cycles after accomplishing paragraph (f) of this AD.

(2) Within 4 months after the effective date of this AD.

Credit for Fokker Service Bulletin SBF100-32-139

(j) Actions done before the effective date of this AD in accordance with Fokker Service Bulletin SBF100-32-139, dated March 5, 2004, are acceptable for compliance with the corresponding requirements of paragraph (f) of this AD.

Alternative Methods of Compliance (AMOCs)

(k)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(l) Dutch airworthiness directive NL-2005-012, dated October 17, 2005, also addresses the subject of this AD.

Issued in Renton, Washington, on July 7, 2006.
Ali Bahrami,
Manager, Transport Airplane Directorate, Aircraft Certification Service.

[FR Doc. E6-11416 Filed 7-18-06; 8:45 am]

BILLING CODE 4910-13-P